DEPARTMENT OF LABOR

Office of Federal Contract Compliance Programs

Notice of Request Under the Freedom of Information Act for Federal Contractors' Type 2 Consolidated EEO-1 Report Data; Correction

AGENCY: Office of Federal Contract Compliance Programs, Labor.

ACTION: Notice; correction and extension of deadline to respond.

SUMMARY: The U.S. Department of Labor's Office of Federal Contract Compliance Programs (OFCCP) published a notice in the Federal Register on August 19, 2022, providing federal contractors instructions on how to object to the release of their Type 2 EEO-1 Report data, requested under the Freedom of Information Act (FOIA). The notice omitted a hyperlink and referenced a non-functional hyperlink for a collection that is not currently active. Additionally, this corrected notice extends the deadline for contractors to submit written objections to October 19, 2022.

FOR FURTHER INFORMATION CONTACT: Candice Spalding, Deputy Director, Division of Management and Administrative Programs, Office of Federal Contract Compliance Programs, 200 Constitution Avenue NW, Room C-3325, Washington, DC 20210. Telephone: 1-855-680-0971 (voice) or 1-877-889-5627 (TTY).

SUPPLEMENTARY INFORMATION:

Corrections

OFCCP makes the following corrections to its August 19, 2022, Federal Register notice (87 FR 51145):

On page 51145, column 3, lines 36-42 are corrected to remove the phrase, “see also EEO-1 Joint Reporting Committee, EEO-1 Instruction Booklet 1, https://www.eeoc.gov/employers/eeo1survey/upload/instructions_form.pdf (describing the EEO-1 Report as “jointly developed by the EEOC and OFCCP”).”

On page 51145, column 3, the last full sentence, “Although the EEOC and OFCCP jointly collect the EEO-1 data through the JRC, as a practical matter, because the JRC is housed at the EEOC, employers submit their data to the EEOC,” is corrected so the sentence reads as: “Employers submit their data to the EEOC.”

On page 51145, column 3, footnote 2 is removed in its entirety.

On page 51146, column 1, lines 11-12, the phrase “compliance surveys” is replaced with “data collections” so the sentence reads as: “Section 709(e) of Title VII of the Civil Rights Act of 1964 imposes criminal penalties and makes it unlawful for any officer or employee of EEOC from making public the employment data derived from any of its data collections prior to the institution of any proceeding under EEOC's authority involving such information.”

On page 51146, column 2, line 6 is corrected to remove “[INSERT LINK]” and embed a hyperlink to the OFCCP website at https://www.dol.gov/agencies/ofccp/submitter-notice-response-portal and remove “15,000” and replace with “24,000,” to read, “Given OFCCP's best estimate that the CIR FOIA request covers approximately 24,000 unique Covered Contractors, OFCCP is fulfilling its notification obligation through this Federal Register notice, a contemporaneous posting on the OFCCP website, and notification to all federal contractors and federal contractor representatives that have registered and provided electronic mail contact information through the agency's Contractor Portal and/or have subscribed to OFCCP's GovDelivery electronic mail listserv.”

Extension of Deadline

The August 19, 2022, Federal Register notice provided a deadline of September 19, 2022, for contractors to submit written objections to disclosure of the requested Type 2 EEO-1 Report data (87 FR 51145). OFCCP is extending this deadline to October 19, 2022, to ensure that Covered Contractors have time to ascertain whether they are covered and submit objections. There are multiple reasons for the extension, including the following. First, since publication of that notice, numerous contractors and contractor representatives have contacted the agency requesting an extension of time to submit objections. Additionally, since the publication of the original notice, some federal contractors have raised questions regarding their efforts to verify whether they are included in the universe of Covered Contractors during the requested timeframe. To address this second issue, OFCCP will also take the additional step of emailing contractors that OFCCP believes are covered by this FOIA request, using the email address provided by contractors that have registered in OFCCP's Contractor Portal and the email addresses provided as a contact for the EEO-1 report.

Kelley J. Smith,
Director of the Division of Management and Administrative Programs, Office of Federal Contract Compliance Programs.

[FR Doc. 2022-20848 Filed 9-26-22; 8:45 am]

BILLING CODE 4510-CM-P